DEPARTMENT OF HEALTH AND HUMAN SERVICES

National Institutes of Health

National Library of Medicine; Amended Notice of Meeting

Notice is hereby given of a change in the meeting of the National Library of Medicine Board of Scientific Counselors, October 15-16, 2025, 9:00 a.m. to 4:00 p.m., which was published in the Federal Register on August 26, 2025, 90 FR 163, Page Number 415876.

This notice is being amended to announce that the meeting will be changed from an In-Person Meeting to a Hybrid Meeting.

Dated: September 15, 2025.
Denise M. Santeufemio,
Supervisory Program Analyst, Office of Federal Advisory Committee Policy.

[FR Doc. 2025-18037 Filed 9-17-25; 8:45 am]

BILLING CODE 4140-01-P